DEPARTMENT OF TRANSPORTATION

Federal Aviation Administration

14 CFR Part 39

[Docket No. FAA-2006-24036; Directorate Identifier 2006-NE-04-AD; Amendment 39-14947; AD 2007-04-15]

RIN 2120-AA64

Airworthiness Directives; Sicma Aero Seat, Passenger Seat Assemblies

AGENCY: Federal Aviation Administration (FAA), Department of Transportation (DOT).

ACTION: Final rule.

SUMMARY: The FAA is adopting a new airworthiness directive (AD) for certain Sicma Aero Seat, passenger seat assemblies. This AD requires modifying the aft track fittings on these passenger seat assemblies by installing new tab locks, and then torquing the aft track fitting locking bolts. We are issuing this AD to prevent detachment of passenger seat assemblies, especially during emergency conditions, leading to occupant injury.

DATES: This AD becomes effective March 23, 2007. The Director of the Federal Register approved the incorporation by reference of certain publications listed in the regulations as of March 23, 2007.

ADDRESSES: You can get the service information identified in this AD from Sicma Aero Seat, 7 Rue Lucien Coupet, 36100 Issoudun, France, telephone: (33) 54 03 39 39; fax: (33) 54 03 15 16.

You may examine the AD docket on the Internet at http://dms.dot.gov or in Room PL-401 on the plaza level of the Nassif Building, 400 Seventh Street, SW., Washington, DC.

FOR FURTHER INFORMATION CONTACT: Jeffrey Lee, Aerospace Engineer, Boston Aircraft Certification Office, FAA, Engine and Propeller Directorate, FAA, 12 New England Executive Park, Burlington, MA 01803; telephone (781) 238-7161; fax (781) 238-7170; e-mail: Jeffrey.lee@faa.gov.

SUPPLEMENTARY INFORMATION: The FAA proposed to amend 14 CFR part 39 with a proposed AD. The proposed AD applies to certain Sicma Aero Seat, passenger seat assemblies. We published the proposed AD in the Federal Register on March 17, 2006 (71 FR 13787). That action proposed to require modifying the aft track fittings on these passenger seat assemblies by installing new tab locks, and then torquing the aft track fitting locking bolts.

Examining the AD Docket

You may examine the docket that contains the AD, any comments received, and any final disposition in person at the Docket Management Facility between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the comments received.

Request To Add Airbus A340 Series Airplanes

One commenter, Airbus, requests that we add the Airbus A340 series airplanes to the list of airplanes these seats could be installed on. We agree and added the A340 series airplanes to the list in applicability paragraph (c). There are no U.S.-registered A340 series airplanes, so the costs of compliance do not change in the AD.

Add Reference to An Alternative Method of Compliance (AMOC)

Airbus requests that we take into account and add a reference to the AMOC of Sicma Aero Seat Service Bulletin No. SB-90-25-009, as allowed by France AD 1994-085 R2. We do not agree. Allowing this AMOC would require operators to obtain and use procedures supplied by the manufacturer. Our AD process already provides a method for operators to request an AMOC, if they so desire. We did not change the AD.

Correction to Annex 1 Reference

We discovered that we inadvertently referenced Sicma Aero Seat Service Bulletin Annex 1 as Issue 2, dated March 31, 1999. We corrected it to Annex 1, Issue 1, dated March 31, 1999.

Conclusion

We have carefully reviewed the available data, including the comments received, and determined that air safety and the public interest require adopting the AD with the changes described previously. We have determined that these changes will neither increase the economic burden on any operator nor increase the scope of the AD.

Costs of Compliance

We estimate that this AD will affect 239,209 Sicma Aero Seat, passenger seat assemblies, installed on 1,016 airplanes of U.S. registry. We also estimate that it will take about 4 work-hours per airplane to perform the actions, and that the average labor rate is $80 per work-hour. Required parts will cost about $235 per airplane. Based on these figures, we estimate the total cost of the AD to U.S. operators to be $563,880. The manufacturer has indicated they might provide the parts at no cost to the operators.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2007-04-15 Sicma Aero Seat: Amendment 39-14947. Docket No. FAA-2006-24036; Directorate Identifier 2006-NE-04-AD.

Effective Date

(a) This airworthiness directive (AD) becomes effective March 23, 2007.

Affected ADs

(b) None.

Applicability

(c) This AD applies to Sicma Aero Seat, passenger seat assemblies, part numbers (P/Ns) 42XX series, 50XX series, 63XX series, 65XX series, 71XX series, 78XX series, 83XX series, 85XX series, 90XX series, 91XX series, and 92XX series, with aft track fittings, P/N 90-000120-790-0, installed. Refer to Annex 1, Issue 1, dated March 31, 1999, of Sicma Aero Seat Service Bulletin No. 90-25-005, Issue 2, dated March 31, 1999, for the full part numbers. These seat assemblies are installed on, but not limited to, Airbus A300, A310, A318, A319, A320, A321, A330, and A340 series airplanes.

Unsafe Condition

(d) This AD results from reports of loose and unlocked aft track fittings on Sicma Aero Seat, passenger seat assemblies. We are issuing this AD to prevent detachment of passenger seat assemblies, especially during emergency conditions, leading to occupant injury.

Compliance

(e) You are responsible for having the actions required by this AD performed within 600 flight hours after the effective date of this AD, unless the actions have already been done.

Aft Track Fitting Modification

(f) Modify aft track fittings, P/N 90-000120-790-0, by installing new tab locks, P/N 00-4399, under the locking bolts.

(g) Torque locking bolts to 17.4-to-34.7 inch pounds.

(h) Stamp amendment “Z” on the seat assembly identification plate.

(i) Use the Accomplishment Instructions of Sicma Aero Seat Service Bulletin No. 90-25-005, Issue 2, dated March 31, 1999, to do these actions.

Alternative Methods of Compliance

(j) The Manager, Boston Aircraft Certification Office, has the authority to approve alternative methods of compliance for this AD if requested using the procedures found in 14 CFR 39.19.

Related Information

(k) Direction Generale de L'Aviation Civile, AD 1994-085(AB) R2, dated July 13, 1999, also addresses the subject of this AD.

(l) Contact Jeffrey Lee, Aerospace Engineer, Boston Aircraft Certification Office, FAA, Engine and Propeller Directorate, FAA, 12 New England Executive Park, Burlington, MA 01803; telephone (781) 238-7161; fax (781) 238-7170; e-mail: Jeffrey.lee@faa.gov for more information about this AD.

Material Incorporated by Reference

(m) You must use Sicma Aero Seat Service Bulletin No. 90-25-005, Issue 2, dated March 31, 1999, and Annex 1, Issue 1, dated March 31, 1999, of that service bulletin to perform the actions required by this AD. The Director of the Federal Register approved the incorporation by reference of this service information in accordance with 5 U.S.C. 552(a) and 1 CFR part 51. Contact Sicma Aero Seat, 7 Rue Lucien Coupet, 36100 Issoudun, France, telephone: (33) 54 03 39 39; fax: (33) 54 03 15 16, for a copy of this service information. You may review copies at the National Archives and Records Administration (NARA). For information on the availability of this material at NARA, call 202-741-6030, or go to: http://www.archives.gov/federal-register/cfr/ibr-locations.html.

Issued in Burlington, Massachusetts, on February 8, 2007.
Peter A. White,
Acting Manager, Engine and Propeller Directorate, Aircraft Certification Service.

[FR Doc. E7-2506 Filed 2-15-07; 8:45 am]

BILLING CODE 4910-13-P